DEPARTMENT OF VETERANS AFFAIRS

Solicitation of Nomination for Appointment to the Veterans' Advisory Committee on Education (VACOE)

ACTION: Notice.

SUMMARY: The Department of Veterans Affairs (VA), Veterans Benefits Administration (VBA), Education Service is seeking nominations of qualified candidates to be considered for appointment as a member of the Veterans' Advisory Committee on Education (VACOE). The Committee is authorized by statute, 38 U.S.C. 3692, and operates under the provisions of the Federal Advisory Committee Act, as amended, 5 U.S.C. App. 2. The Committee provides advice to the Secretary of Veterans Affairs on the administration of education and training programs, like the Post-9/11 GI Bill, and recommends new and improved education benefit programs and services for Veterans and Servicepersons, Reservists and Guard personnel, and for dependents of Veterans under chapters 30, 32, 33, 35, and 36 of title 38, and chapters 1606 of title 10, United States Code. The Committee submits its recommendations and reports to the Secretary and may also submit its reports to Congress.

The Secretary appoints Committee members and determines the length of terms in which Committee members may serve. A term of service for any member may not exceed two years. The Secretary can reappoint members for additional terms, but individual members cannot serve more than two consecutive terms. Each year, there are several vacancies on the Committee as members' terms expire. Education Service is seeking candidates who reflect the population the Committee serves.

In accordance with the Office of Management and Budget guidance, federally registered lobbyists may not serve on Federal advisory committees in their individual capacity. Additional information regarding this issue can be found at https://www.federalregister.gov/articles/2014/08/13/2014-19140/revised-guidance-on-appointment-of-lobbyists-to-federal-advisory-committees-boards-and-commissions.

DATES: All nominations for membership on the Committee must be received by October 15, 2016, no later than 4:00 p.m., Eastern Standard Time. Packages received after this time will not be considered for the current membership cycle.

ADDRESSES: All nominations should be mailed to VACOE, Designated Federal Officer (DFO), Barrett Y. Bogue, Department of Veterans Affairs, 810 Vermont Ave. NW., (223D), Washington, DC 20420, or emailed to Barrett.Bogue@va.gov.

FOR FURTHER INFORMATION, CONTACT: Mr. Barrett Y. Bogue, Designated Federal Officer, Department of Veterans Affairs, Veterans Benefits Administration (223D), 810 Vermont Avenue NW., Washington, DC 20420, telephone (202) 461-9800 or email at Barrett.Bogue@va.gov.

SUPPLEMENTARY INFORMATION: The Committee is currently comprised of 10 members. The Committee consists of members appointed by the Secretary from the general public, including: Representatives of women Veterans; individuals who are recognized authorities in fields of education; representatives of Veterans with service-connected disabilities, including at least one female Veteran with a service-connected disability and at least one male Veteran with a service-connected disability; and Veterans who are recently separated from service in the Armed Forces.

The Committee meets at least once annually, which may include a site visit to a military installation. In accordance with Federal Travel Regulations, VA will cover travel expenses—to include per diem—for all members of the Committee, for any travel associated with official Committee duties.

The Department makes every effort to ensure that the membership of VA federal advisory committees is fairly balanced in terms of points of view represented and the Committee's function. To the extent possible, the Secretary seeks members who have diverse professional and personal qualifications, including but not limited to prior military experience and military deployments, experience working with Veterans education and in large and complex organizations, and subject matter expertise in the subject areas described above. We ask that nominations include information of this type so that VA can ensure a balanced Committee membership. Appointments to this Committee shall be made without discrimination based on a person's race, color, religion, gender, sexual orientation, gender identity, national origin, age, disability, or genetic information. Nominations must state that the nominee is willing to serve as a member of the Committee and appears to have no conflict of interest that would preclude membership.

Requirements for Nomination Submission: Nominations should be typed, 12 point font (one nomination per nominator). A nomination package should include:

(1) A cover letter from the nominator that clearly states the name and affiliation of the nominee, the basis for the nomination (i.e., specific attributes that qualify the nominee for service in this capacity), and a statement confirming that she/he is not a federally registered lobbyist.

(2) a current resume that is no more than four pages in length, including name, mailing address, telephone numbers, and email address; the resume should show professional work experience, and Veterans service involvement, especially service that involves Veterans' education issues.

(3) the nominee's curriculum vitae, any relevant Veterans service activities she/he is currently engaged in, the military branch affiliation and timeframe of military service (if applicable).

(4) a summary of the nominee's experience and qualifications relative to the membership considerations described above.

Dated: September 14, 2016.
Jelessa Burney,
Federal Advisory Committee Management Officer.

[FR Doc. 2016-22445 Filed 9-16-16; 8:45 am]

BILLING CODE 8320-01-P